DEPARTMENT OF STATE

[Public Notice 5795]

Preparation of Fourth U.S. Climate Action Report

AGENCY: Department of State

ACTION: Notice of extension of deadline for request for public comments.

SUMMARY: In June 1992, the United States signed, and later ratified in October, the United Nations Framework Convention on Climate Change (UNFCCC). Pursuant to the national communication reporting requirements under Articles 4.2 and 12 of the Convention and to guidelines later adopted by the UNFCCC Conference of the Parties (COP), the United States submitted the first U.S. Climate Action Report (USCAR) to the UNFCCC Secretariat in 1994, the second in 1997 and the third in 2002. The U.S. Government has prepared an initial draft of the fourth national communication for public review, and provided notice in the Federal Register on May 4, 2007 soliciting public input on the draft text of the national communication prior to finalization of the document. The purpose of this announcement is to notify interested members of the public that the Department of State is extending the deadline for submitting comments on the draft text to June 1.

DATES: The Department of State is extending the deadline for comments by 14 days from the original deadline of May 18. Written comments should be received on or before noon, June 1.

ADDRESSES: Comments should be submitted via e-mail to CAR4@state.gov. Additionally, comments may be sent via postal mail to: CAR4 Comments, U.S. Department of State, Office of Global Change (Room 2480), 2201 “C” Street NW., Washington, DC 20520 or via fax to: (202) 647-0191.

FOR FURTHER INFORMATION CONTACT: Dr. Kirsten R. Jaglo, Office of Global Change, U.S. Department of State at (202) 736-7092.

SUPPLEMENTARY INFORMATION:

Background

In accordance with the UNFCCC's reporting requirements as specified in Articles 4.2 and 12, and following reporting guidelines developed (and adopted by the UNFCCC COP at its first session), the United States prepared the first U.S. Climate Action Report (CAR) and submitted it to the UNFCCC Secretariat in October 1994.

At the eighth COP in 2002, in Decision 4/CP.8 the Parties requested that Parties included in Annex I to the convention submit to the secretariat a fourth national communication (see FCCC/CP/2002/7/Add.1). This document is available on the Internet at http://unfccc.int/resource/docs/cop8/07a01.pdf#page=12.

The Fourth United States Climate Action Report (CAR)

The draft fourth CAR provides an update on key activities conducted by the U.S. since the third CAR, an inventory of U.S. greenhouse gas emissions and sinks, an estimate of the effects of mitigation measures and policies on future emissions levels, and a description of U.S. leadership and involvement in international programs, including associated contributions and funding efforts.

In addition, the text discusses U.S. national circumstances that affect U.S. vulnerability and responses to climate change. Finally, the CAR presents information on the U.S. Climate Change Science Program, the U.S. Climate Change Technology Program, our efforts in systematic observations, including the U.S. Integrated Earth Observation System, and our education, training and outreach efforts.

Table of Contents of the draft Fourth U.S. CAR

1. Introduction and overview.

2. National circumstances.

3. Greenhouse gas inventory.

4. Policies and measures.

5. Projected greenhouse gas emissions.

6. Impacts and Adaptation.

7. Financial resources and transfer of technology.

8. Research and systematic observation.

9. Education, training, and outreach.

Public Input Process

This Federal Register notice solicits comments on the draft chapters listed above. The individual chapters are posted on the Internet and may be down-loaded from the following Web site: http://www.state.gov/g/oes/climate. Comments may be submitted to the contact listed above. Comments on each of the chapters will be due within 14 days of release.

The 2002 U.S. Climate Action Report may be viewed or downloaded via the Internet at: http://www.gcrio.org/CAR2002/.

Dated: May 10, 2007.
Drew Nelson,
Acting Director, Office of Global Change, Department of State.

[FR Doc. E7-9293 Filed 5-14-07; 8:45 am]

BILLING CODE 4710-09-P